DEPARTMENT OF HOMELAND SECURITY

Coast Guard

[Docket No. USCG-2010-0032]

Houston/Galveston Navigation Safety Advisory Committee

AGENCY: Coast Guard, DHS.

ACTION: Notice of meetings.

SUMMARY: The Houston/Galveston Navigation Safety Advisory Committee (“HOGANSAC” or “the Committee”) and its working groups will meet in Houston, Texas to discuss waterway improvements, aids to navigation, area projects impacting safety on the Houston Ship Channel, and various other navigation safety matters in the Galveston Bay area. All meetings will be open to the public.

DATES: The Committee will meet on Thursday, March 11, 2010 from 9 a.m. to 12 p.m. The Committee's working groups will meet on Thursday, February 25, 2010 from 9 a.m. to 12 p.m. These meetings may close early if all business is finished. Written material and requests to make oral presentations should reach the Coast Guard on or before March 4, 2010. Requests to have a copy of your materials distributed to each member of the committee or working group should reach the Coast Guard on or before February 24, 2010. All comments and related material submitted after the meeting must be received by the Coast Guard on or before April 11, 2010.

ADDRESSES: The Committee and working groups will meet at Western Gulf Maritime Association (WGMA), 1717 East Loop, Suite 200, Houston, Texas 77029, (713) 678-7655. Send written material and requests to make oral presentations to Commander Michael Zidik, Designated Federal Officer (DFO) of HOGANSAC, CG SEC Houston-Galveston, 9640 Clinton Drive, Houston, TX 77029. This notice and documents identified in the SUPPLEMENTARY INFORMATION section as being available in the docket may be viewed in our online docket, USCG-2010-0032, at http://www.regulations.gov.

FOR FURTHER INFORMATION CONTACT: If you have questions concerning the meeting, please call or e-mail Lieutenant Junior Grade Margaret Brown, Waterways Management Branch, Coast Guard; telephone 713-678-9001, e-mail Margaret.A.Brown@uscg.mil. If you have questions on viewing or submitting material to the docket, call Renee V. Wright, Program Manager, Docket Operations, telephone 202-366-9826.

SUPPLEMENTARY INFORMATION: Notice of these meetings is given pursuant to the Federal Advisory Committee Act, 5 U.S.C. App. (Pub. L. 92-463).

Agendas of the Meetings

Houston/Galveston Navigation Safety Advisory Committee (HOGANSAC). The tentative agenda is as follows:

(1) Opening Remarks by the Committee Sponsor (RADM Landry) and Chairperson (Ms. Tava Foret).

(2) Approval of May 19, 2009 minutes.

(3) Old Business.

(a) Navigation Operations (NAVOPS)/Maritime Incident Review subcommittee report;

(b) Dredging subcommittee report;

(c) Technology subcommittee report;

(d) Waterways Optimization subcommittee report;

(e) Commercial Recovery Contingency (CRC) Subcommittee replacement needed (vote required by group).

(f) HOGANSAC Outreach subcommittee report;

(g) Area Maritime Security Committee (AMSC) Liaison's report.

(4) New Business.

(a) Towing Vessel Bridging Program Explanation.

(b) State of the Waterways Address.

(5) Announcements.

(a) PAWSA Completion and VTSA Change Request.

(b) Schedule Next Meetings.

Working Groups Meeting. The tentative agenda for the working groups meeting is as follows:

(1) Presentation by each working group of its accomplishments and plans for the future;

(2) Review and discuss the work completed by each working group;

(3) Put forth any action items for consideration at full committee meeting.

Procedural

Both meetings are open to the public. Please note that meetings may close early if all business is finished. At the Chairs' discretion, members of the public may make oral presentations during the meetings. If you would like to make an oral presentation at the Committee meeting, please notify the DFO no later than March 4, 2010. Written material for distribution at a meeting should reach the Coast Guard no later than February 24, 2010. If you would like a copy of your material distributed to each member of the Committee in advance of the meetings, please submit 19 copies to the Coast Guard no later than February 24, 2010.

Information on Service for Individuals With Disabilities

For information on facilities or services for individuals with disabilities or to request special assistance at the public meeting, contact Lieutenant Junior Grade Margaret Brown at the telephone number or e-mail address indicated under the FOR FURTHER INFORMATION CONTACT section of this notice.

Dated: January 23, 2010.
M.E. Woodring,
Captain, U.S. Coast Guard Commander, Sector Houston-Galveston.

[FR Doc. 2010-2618 Filed 2-5-10; 8:45 am]

BILLING CODE 9110-04-P